DEPARTMENT OF THE INTERIOR

Bureau of Indian Affairs

[167 A2100DD/AAKC001030/A0A501010.999900]

Indian Gaming; Approval of a Tribal-State Class III Gaming Compact in the State of South Dakota

AGENCY: Bureau of Indian Affairs, Interior.

ACTION: Notice.

SUMMARY: The Flandreau Santee Sioux Tribe of South Dakota and State of South Dakota entered into a compact replacing and superseding an existing Tribal-State compact governing Class III gaming; this notice announces approval of the compact.

DATES: Effective September 21, 2016.

FOR FURTHER INFORMATION CONTACT: Ms. Paula L. Hart, Director, Office of Indian Gaming, Office of the Assistant Secretary—Indian Affairs, Washington, DC 20240, (202) 219-4066.

SUPPLEMENTARY INFORMATION: Section 11 of the Indian Gaming Regulatory Act (IGRA) requires the Secretary of the Interior to publish in the Federal Register notice of approved Tribal-State compacts that are for the purpose of engaging in Class III gaming activities on Indian lands. See Public Law 100-497, 25 U.S.C. 2701 et seq. All Tribal-State Class III compacts, including amendments, are subject to review and approval by the Secretary under 25 CFR 293.4. The compact increases the authorized number of gaming machines to 1,000, and establishes Tribal contributions to local governments based on the number of gaming machines in operation. In addition, the term of the compact is subject to review at 10 year intervals, starting from the date of approval of this compact, with an automatic 10 year renewal. The compact is approved. See 25 U.S.C. 2710(d)(8)(A).

Dated: September 13, 2016.
Lawrence S. Roberts,
Acting Assistant Secretary—Indian Affairs.

[FR Doc. 2016-22649 Filed 9-20-16; 8:45 am]

BILLING CODE 4337-15-P